DEPARTMENT OF AGRICULTURE

Natural Resources Conservation Service

Harding Lake, Aquatic Habitat Enhancement Project

AGENCY: Natural Resources Conservation Service, USDA.

ACTION: Notice of a Finding of No Significant Impact.

SUMMARY: Pursuant to Section 102(2)(C) of the National Environmental Policy Act of 1969; the Council on Environmental Quality Guidelines (40 CFR part 1500); and the Natural Resources Conservation Service (formerly the Soil Conservation Service) Guidelines (7 CFR part 650); the Natural Resources Conservation Service, U.S. Department of Agriculture, Robert Jones, State Conservationist, finds that neither the proposed action nor any of the alternatives is a major federal action significantly affecting the quality of the human environment, and determine that an environmental impact statement is not needed for the Harding Lake, Aquatic Habitat Enhancement Project.

FOR FURTHER INFORMATION CONTACT: Mr. Robert Jones, State Conservationist, Natural Resources Conservation Service, Alaska State Office, 800 West Evergreen Avenue, Suite 100, Palmer, AK 99645-6539; Phone: 907-761-7760; Fax: 907-761-7790.

SUPPLEMENTARY INFORMATION: The environmental assessment of this federally assisted action indicates that the project will not cause significant local, regional, or national impacts on the environment. As a result of these findings, the preparation and review of an environmental impact statement are not needed for this project.

The project purpose is to redirect and control partial stream flows to restore shallow-water spawning and rearing habitat for Northern Pike (Exos lucius) and the Least Ciscoe (Coregonus sardinella) at Harding Lake, Salcha, AK. The planned works of improvement include installation of a double-weir, sheet-pile stream flow control system in Rogge Creek. This will re-establish more consistent water flow to the Harding Lake Channel of Rogge Creek terminating in Harding Lake. Subsequently, the rise in water levels (design ASL 717) will provide more stable water conditions in Harding Lake to serve in reestablishing littoral wetland areas for northern pike production and rearing. Operation and maintenance of the structure will address flood control to the capacity of the Rogge Creek channels ability to contain flood waters (100 cfs), when out of bank flows will respond to the natural topography and conditions, irrespective of the structure presence. A natural outlet of the Harding Lake controls upper surface levels of the lake.

The Notice of a Finding of No Significant Impact (FONSI) has been forwarded to the Environmental Protection Agency and other interested parties. A limited number of copies of the FONSI are available to fill single copy requests at the above address. Basic data developed during the environmental assessment are on file and may be reviewed by contacting Robert Jones.

No administrative action on implementation of the proposal will be taken until 30 days after the date of this publication in the Federal Register.

Dated: February 9, 2006.
Robert Jones,
State Conservationist.

[FR Doc. 06-1573 Filed 2-17-06; 8:45 am]

BILLING CODE 3410-16-M